DEPARTMENT OF TRANSPORTATION

Maritime Administration

[Docket No. MARAD-2018-0088]

Centers of Excellence for Domestic Maritime Workforce Training and Education

AGENCY: Maritime Administration, Department of Transportation.

ACTION: Notice and request for comments.

SUMMARY: This notice provides interested parties with the opportunity to comment on the Maritime Administration's (MARAD) application process to designate training entities as Centers of Excellence for Domestic Maritime Workforce Training and Education (CoE). The Secretary of Transportation, acting through the Maritime Administrator, may make CoE designations and enter Cooperative Agreements with CoE designees. MARAD is developing the below Proposed Applicant Guide and invites public comment to ensure that the designation procedure and guidance is simple, clear, and comprehensive.

DATES: Comments must be received on or before July 2, 2018. MARAD will consider comments filed after this date to the extent practicable.

ADDRESSES: You may submit comments identified by DOT Docket Number MARAD-2018-0088 by any of the following methods:

• Website/Federal eRulemaking Portal: Go to http://www.regulations.gov. Follow the instructions for submitting comments on the electronic docket site.

• Mail: Docket Management Facility; U.S. Department of Transportation, 1200 New Jersey Avenue SE, Room PL-401, Washington, DC 20590-0001.

• Hand Delivery: Room PL-401 of the Department of Transportation, 1200 New Jersey Avenue SE, Washington, DC, between 9 a.m. and 5 p.m., Monday through Friday, except Federal Holidays.

Instructions: All submissions must include the agency name and docket number for this notice.

Note: All comments received will be posted without change to http://www.regulations.gov including any personal information provided.

Docket: For access to the docket to read the Applicant Guide or comments received, go to http://www.regulations.gov at any time or to Room PL-401 of the Department of Transportation, 1200 New Jersey Avenue SE, Washington, DC, between 9 a.m. and 5 p.m., Monday through Friday, except Federal Holidays.

FOR FURTHER INFORMATION CONTACT: You may contact Nuns Jain, Maritime Administration, at 757-322-5801 or by electronic mail at Nuns.Jain@dot.gov. You may send mail to Nuns Jain at Maritime Administration, Building 19, Suite 300, 7737 Hampton Boulevard, Norfolk, VA 23505.

SUPPLEMENTARY INFORMATION: Following the enactment of the National Defense Authorization Act of 2018, Public Law 115-91 (the “NDAA”), MARAD is developing a procedure to designate eligible institutions as Centers of Excellence for Domestic Maritime Workforce Training and Education (CoE). Qualified training entities seeking to be designated as a CoE will be required to apply with MARAD. The application will include information to demonstrate that the applicant institution meets certain eligibility criteria, designation requirements, and attributes consistent with Section 3507 of the NDAA, codified at 46 U.S.C. 54102. The final MARAD application process and procedure will be made available to the public on its website www.MARAD.dot.gov. MARAD invites your comment on the below Proposed Applicant Guide and the issues specified under the Scope of Comments section.

Scope of Comments

In addition to seeking general comments on the proposed applicant guide, the agency is interested in learning 1. Whether the proposed definitions of “Community or Technical College”, “Maritime Training Center” and “Operated by, or under the supervision of a State” are clear, appropriate and adequate to cover all institutions who may be eligible to apply for designation under the statute; 2. Whether the proposed Designation Requirements and Designation Attributes are clear, appropriate, and adequate; and 3. Whether there are less burdensome methods to evidence applicant qualifications.

Proposed Applicant Guide

How To Be Designated as a Center of Excellence for Domestic Maritime Workforce Training and Education

1. Important Definitions

a. “Afloat Career” means a career as a merchant mariner compensated for service aboard a vessel in the U.S. merchant marine. This includes vessels of all types covering all U.S. Merchant Marine segments, whether or not documented, including, but not limited to—oceangoing, coastwise, Great Lakes, inland, harbor, towing, offshore industry, cruise, pleasure boats, tourist boats, ferries, dredging, research vessels, government-owned, etc.;

b. “Arctic”—means all United States and foreign territory north of the Arctic Circle and all United States territory north and west of the boundary formed by the Porcupine, Yukon, and Kuskokwim Rivers; all contiguous seas, including the Arctic Ocean and the Beaufort, Bering, and Chukchi Seas; and the Aleutian chain. [Section 112 of the Arctic Research and Policy Act of 1984, codified at 15 U.S.C. 4111];

c. “Ashore Career” means a career in in the shore based maritime industry. Ashore based maritime industry includes, but is not limited to vessel operations, ship management, ship building and ship repair, port operations and management, marine terminal operations and management, vessel design, ship brokerage, marine insurance, pilotage, towing industry, offshore industry, dredging and maritime-oriented supply chain operations;

d. “Community or Technical College” means an institution of higher education that

(A) admits as regular students, persons who are beyond the age of compulsory school attendance in the State in which the institution is located; and

(B) does not provide an educational program for which the institution awards a bachelor's degree (or an equivalent degree); and

(C) (i) provides an educational program of not less than 2 years in duration that is acceptable for full credit toward a bachelor's or equivalent degree; or

(ii) offers at least a 2-year program in engineering, mathematics, or the physical or biological sciences, designed to prepare a student to work as a technician or at the semiprofessional level in an industry field that involves engineering, scientific, or other technological fields requiring the understanding and application of basic engineering, scientific, or mathematical principles of knowledge; and

(D) that is partially supported by public funds from the state or its political subdivisions.

e. “Maritime Training Center” means a training institution—

(A) that provides a structured program of training courses to prepare students and/or enhance their skills for Afloat Careers and/or Ashore Careers in the maritime industry; and

(B) that is not a “Community or Technical College”

f. “Mississippi River System” means the mostly riverine network of the United States which includes the Mississippi River, and all connecting waterways, natural tributaries and distributaries. The system includes the Arkansas, Illinois, Missouri, Ohio, Red, Allegheny, Tennessee, Wabash and Atchafalaya rivers. Important connecting waterways include the Illinois Waterway, the Tennessee-Tombigbee Waterway, and the Gulf Intracoastal Waterway;

g. “Operated by, or under the supervision of a State” means operated by or under the supervision or control of a public entity of a State government or one of its subdivisions, including, but not limited to, county governments, city or local governments, and public-school systems;

h. United States Maritime Industry includes all segments of the working community involving the maritime related transportation activities involving the transportation system of the United States, both in domestic and foreign trade, blue water and brown water, coastal and inland waters, as well as non-commercial maritime activities, such as pleasure boating, and all of the industries that support such uses, including, but not limited to vessel construction and repair, vessel operations, ship logistics supply, berthing, port operations, port intermodal operations, marine terminal operations, vessel design, marine brokerage, marine insurance, marine financing, chartering, maritime-oriented supply chain operations, offshore industry.

2. What is the Center of Excellence for Domestic Maritime Workforce Training and Education (CoE) Program?

Pursuant to Section 3507 of the National Defense Authorization Act, 2018, Public Law 115-91 (December 12, 2017), codified at 46 U.S.C. 54102, the Secretary of Transportation may:

a. Designate a covered training entity as a Center of Excellence for Domestic Maritime Workforce Training and Education (CoE).

b. Enter into a cooperative agreement with a designated CoE.

3. Who is eligible to apply for designation as a CoE?

An educational institution that provides training and education for the domestic maritime workforce is eligible to apply to MARAD for designation as a CoE if it can demonstrate satisfactory compliance with the following Eligibility Criteria for a covered training entity under the statute:

I. The institution is in a State that borders on the:

a. Gulf of Mexico;

b. Atlantic Ocean;

c. Long Island Sound;

d. Pacific Ocean;

e. Great Lakes;

f. Mississippi River System;

g. Arctic; or

h. Gulf of Alaska.

II. The institution is either:

a. A Community or Technical College; or

b. A Maritime Training Center.

i. Operated by, or under the supervision of a State; and

ii. With a maritime training program in operation in its curriculum on 12/12/2017.

4. What are the selection criteria for designation as a CoE?

An eligible training institution applicant must demonstrate satisfactory compliance with the Designation Requirements listed under III through V and the qualitative Designation Attributes listed under VI below.

III. The academic programs offered by the institution will include:

a. One or more Afloat Career preparation tracks in the United States Maritime Industry, and/or

b. One or more Ashore Career preparation tracks in the United States Maritime Industry.

IV. Institutions offering Afloat Career tracks will:

a. Meet Regional and/or state accreditation, as applicable; and

b. Maintain United States Coast Guard (USCG) approval for the merchant mariner training program and/or merchant mariner training course(s) offered by the institution, as applicable; and

c. Provide recruitment and placement statistics that clearly document institutional effectiveness.

V. Institutions offering Ashore Career tracks will:

a. Meet Regional and/or state accreditation, as applicable; and

b. Maintain authorization and/or endorsement of the program and/or course(s) by an applicable professional society or industry body (Welding, Electrician, Electronics etc.) to issue industry accepted Certifications that reflect a professionally recognized level of educational or technical skill achievement; and

c. Provide recruitment and placement statistics that clearly document institutional effectiveness.

VI. In addition to meeting the requirements listed above, the CoE is expected to foster the following desirable attributes:

a. Support the workforce needs of the local, state, or regional economy; and

b. Build the STEM (Science, Technology, Engineering, and Math) competencies of local/future workforce to meet emerging local, regional, and national economic interests; and

c. Promote diversity and inclusion among the student body; and

d. Offer a broad-based curriculum and stackable credentials where applicable; and

e. Engage and/or collaborate with the maritime industry; and

f. Engage and/or collaborate with maritime high schools; and

g. Engage and/or collaborate with maritime academies and other institutions for advanced proficiency and higher education.

5. What agreement may MARAD execute with a designated CoE?

The Maritime Administrator, or designee, may enter into a cooperative agreement with a covered training entity that has been designated a CoE to support maritime workforce training and education, including but not limited to efforts of the CoE to:

a. Recruit, admit and train students;

b. Recruit and train faculty;

c. Expand and enhance facilities;

d. Create new maritime career pathways;

e. Award students credit for prior experience, including military service;

f. Provide funding to the CoE by grants or otherwise where such funding is appropriated for such purposes; or

g. Such other activities that are determined by the Maritime Administration and the CoE that would further maritime workforce training and education.

6. What specific assistance may MARAD offer to a designated CoE under a Cooperative Agreement?

The specific assistance that the Maritime Administration may offer under the cooperative agreement includes, but is not limited to:

a. Donation of surplus equipment to CoEs that also meet the requirements of 46 U.S.C. 51103(b)(2)(C);

b. Temporary use of MARAD vessels and assets for indoctrination, training, and assistance, subject to availability and approval by MARAD, and where applicable, the Department of Defense;

c. Availability of MARAD subject matter experts to address students when feasible; and

d. The provision of funding, to the extent such funds are appropriated, available for CoEs under appropriations law, and notification to CoEs.

7. Where do I send my application?

All applications for CoE designation or renewals should be submitted to: Deputy Associate Administrator for Maritime Education and Training, Maritime Administration, U.S. Department of Transportation, 1200 New Jersey Avenue SE, Washington, DC 20590.

8. When should I submit my application for CoE designation?

MARAD will publish a Federal Register Notice requesting applications for designation as a Center of Excellence. That notice will provide you with information on timing and what you can expect.

9. What information should be included in an application for CoE designation?

The application should include sufficient information to demonstrate that the applicant institution meets the Eligibility Criteria, Designation Requirements and Designation Attributes listed above.

10. How will I know whether I was approved for designation?

During the evaluation of the application and the supporting documentation. MARAD may request clarifications or additional information from the applicant. MARAD will notify the applicant of the decision regarding approval or disapproval for designation within 120 days after receipt of the application. In the case of approval, MARAD will thereafter publish the designated CoE's name and contact information on its website.

Upon designation, MARAD may enter into a cooperative agreement with the designated institution in accordance with Sections 5 and 6 of this applicant guide. MARAD will develop and forward an agreement draft for the designated institution's review before the agreement is executed.

11. After my institution is approved and designated, are there any on-going responsibilities necessary to maintaining my designation?

The designated institution shall submit an annual statement of continued compliance with the designation criteria listed under Questions 3 and 4 and an annual update to the recruitment and placement statistics proffered in their application. At any time, MARAD may request a designated institution to provide updated information to support its continued status as a CoE.

12. Does my designation expire?

The duration of a CoE designation shall be for a period of five years from the date of designation.

13. How can I renew my organization's designation?

A designated training institution may apply for renewal of its CoE designation six months prior to its expiration. MARAD may renew the CoE designation and the Cooperative Agreement if the designated institution successfully demonstrates sustained excellence at a level which initially earned the institution the CoE designation. The institution must also demonstrate excellence in accordance with the applicable Designation Requirements and Attributes in place at the time of such renewals. There is no limit on the number of times MARAD may renew the CoE designation of a particular training institution.

14. Can a CoE designation be revoked?

DOT/MARAD may, after notice and an opportunity to respond, suspend or revoke the CoE designation of a training institution, if there is evidence of the designated institution's non-compliance with the designation criteria or the terms of the cooperative agreement. A CoE designation shall be subject to removal if it ceases to meet either the CoE requirements and attributes identified in this applicant guide, loses its approvals to teach accredited courses, or for good cause shown as determined by the Maritime Administration. Designated institutions can appeal revocation of the designation by appealing to the Maritime Administrator or his designated representative. The appeal must be in writing and address the specific reasons why you believe your designation should be reinstated by MARAD.

Public Participation

How do I submit comments?

Please submit your comments, including any attachments, following the instructions provided under the above heading entitled ADDRESSES. Be advised that it may take a few hours or even days for your comment to be reflected on the docket. In addition, your comments must be written in English. We encourage you to provide concise comments. You may attach additional documents as necessary. There is no limit on the length of the attachments.

Please note that even after the comment period has closed, MARAD will continue to file relevant information in the Docket as it becomes available.

Where do I go to read public comments, and find supporting information?

Go to the docket online at http://www.regulations.gov, keyword search MARAD-2018-0088 or visit us in person at the Docket Management Facility (see ADDRESSES for hours of operation). We recommend that you periodically check the Docket for new submissions and supporting material.

Will my comments be made available to the public?

Yes. Be aware that your entire comment, including your personal identifying information, will be made publicly available.

May I submit comments confidentially?

If you wish to submit comments under a claim of confidentiality, you should submit three copies of your complete submission, including the information you claim to be confidential business information, to the Department of Transportation, Maritime Administration, Office of Legislation and Regulations, MAR-225, W24-220, 1200 New Jersey Avenue SE, Washington, DC 20590. Include a cover letter setting forth with specificity the basis for any such claim and, if possible, a summary of your submission that can be made available to the public.

Privacy Act

In accordance with 5 U.S.C. 553(c), DOT/MARAD solicits comments from the public to better inform its rulemaking process. DOT/MARAD posts these comments, without edit, to www.regulations.gov, as described in the system of records notice, DOT/ALL-14 FDMS, accessible through www.dot.gov/privacy. To facilitate comment tracking and response, we encourage commenters to provide their name, or the name of their organization; however, submission of names is completely optional. Whether or not commenters identify themselves, all timely comments will be fully considered. If you wish to provide comments containing proprietary or confidential information, please contact the agency for alternate submission instructions.

Authority: 49 CFR Sections 1.92 and 1.93.

* * *

Dated: May 25, 2018.
By Order of the Maritime Administrator.
T. Mitchell Hudson, Jr.,
Secretary, Maritime Administration.

[FR Doc. 2018-11682 Filed 5-30-18; 8:45 am]

BILLING CODE 4910-81-P